DEPARTMENT OF THE INTERIOR

National Park Service

General Management Plan; Devils Postpile National Monument; Mono County, CA; Notice of Intent To Prepare an Environmental Impact Statement

SUMMARY: In accordance with 102(2)(C) of the National Environmental Policy Act of 1969, the National Park Service—in cooperation with Inyo National Forest—is undertaking a conservation planning and environmental impact analysis process for creating a new General Management Plan (GMP) for Devils Postpile National Monument (monument), California. The GMP is intended to set forth the basic management philosophy for this unit of the National Park System and provide the strategies for addressing issues and achieving identified management objectives for that unit. The GMP will serve as a “blueprint” to guide management of natural and cultural resources and visitor use during the next 15-20 years.

In addition to identifying an “environmentally preferred” alternative, one or more development concept plans, which guide more detailed, site-specific preservation and development, may also be included with the GMP. The GMP will also include an eligibility assessment for wild and scenic river designation for the upper Middle Fork San Joaquin River, as required by NPS Management Policies 2006 for rivers and river segments in the National Park System.

The National Park Service (NPS) will serve as lead agency and the U.S. Forest Service shall assume the role of cooperating agency in preparing the Environmental Impact Statement (EIS). Devils Postpile National Monument is working in cooperation with the Inyo National Forest on this GMP so as to seamlessly address visitor opportunities within the valley (such as facilities, transit, and overall visitor experience) and resource management issues in the upper Middle Fork San Joaquin River watershed (such as watershed management, biodiversity, and response to climate change). For any actions that the Forest Service determines would be necessary to be undertaken on Forest Service lands, the Forest Service would approve appropriate compliance separately.

Background Information: Devils Postpile National Monument was established in 1911 by presidential proclamation. The 798-acre monument rests along the Middle Fork San Joaquin River on the Sierra Nevada's western slope and was established to preserve the columnar formation, Devils Postpile, and 101-foot Rainbow Falls. The formation Devils Postpile ranks as one of the world's finest examples of columnar jointing. Its columns tower 60 feet high and display an unusual symmetry. The monument also preserves natural mountain scenery and serves as a portal to the High Sierra backcountry. Both the John Muir Trail and Pacific Crest Trail pass through the monument.

Originally administered by the U.S. Forest Service, the monument was transferred to the national park system in 1934. After the transfer, the monument was managed as a satellite unit first by Yosemite and then by Sequoia and Kings Canyon National Parks before becoming an independent unit of the national park system. Congress also included 747 acres of the monument in the Ansel Adams Wilderness in 1984, consequently over 90% of the monument is designated as Wilderness.

The National Park Service oversees the 798-acre Devils Postpile National Monument, while the U.S. Forest Service manages the lands surrounding the monument. These two Federal agencies work as partners to manage public lands in this area. Access to Devils Postpile is primarily via a mandatory bus system managed by the Forest Service. Hiking trails wind seamlessly in and out of the monument and onto the adjacent national forest. Both agencies are also responsible for wilderness areas. The Devils Postpile trailhead provides one of three main access points to the Pacific Crest and John Muir trails as well as portals to the Ansel Adams and John Muir Wildernesses. Wilderness permits for the national forest may be obtained through the monument.

Preliminary Issues: A comprehensive management plan that provides a broad, long-term vision for management of Devils Postpile National Monument has never been developed. Management direction was previously provided through Yosemite and Sequoia and Kings Canyon National Parks. Programmatic strategies to protect, maintain or restore resources and address visitor access, services, and development specific to the monument are needed.

Consistent with NPS Planning Program Standards, this GMP will: (1) Describe the monument's purpose, significance, and primary interpretive themes; (2) identify the fundamental resources and values of the monument, its other important resources and values, and describe the condition of these resources; (3) describe desired conditions for cultural and natural resources and visitor experiences throughout the monument; (4) develop management zoning to support these desired conditions; (5) develop alternative applications of these management zones to the monument's landscape (i.e. zoning alternatives); (6) address user capacity; (7) analyze potential boundary modifications; (8) ensure that management recommendations are developed in consultation with interested stakeholders and the public and adopted by NPS leadership after an adequate analysis of the benefits, environmental impacts, and economic costs of alternative courses of action; (9) develop cost estimates for implementing each of the alternatives; and (10) identify and prioritize subsequent detailed studies, plans and actions that may be needed to implement the GMP, including further wild and scenic river planning or Wilderness management planning that may be required.

Scoping Process: The purpose of this scoping outreach effort is to elicit early public feedback regarding potential issues and concerns, the nature and extent of potential environmental impacts (and as appropriate, mitigation measures), and alternative concepts which should be addressed in developing the monument's first plan. Through the outreach activities planned in the scoping phase, the NPS welcomes information and suggestions from the public regarding resource protection, visitor use, and land management. All scoping comments must be postmarked or transmitted by September 25, 2009.

Comments may be provided online through the NPS Planning, Environment and Public Comment Web site http://parkplanning.nps.gov/depo. If it is more convenient, or if you do not have access to a computer, written comments may also be addressed to: General Management Plan, Devils Postpile National Monument, Attn: Deanna Dulen, Superintendent, P.O. Box 3999, Mammoth Lakes, California 93546. Before including your address, phone number, e-mail address, or other personal identifying information in your comment, you should be that your entire comment—including your personal identifying information—may be made publicly available at any time. While you can ask us in your comment to withhold your personal identifying information from public review, we cannot guarantee that we will be able to do so.

During the summer of 2009, the NPS, in cooperation with the Inyo National Forest, will host two rounds of public open houses in Mammoth Lakes, California. These open houses are planned for July 8 and July 9, 2009 and for September 9 and September 10, 2009. Detailed information including times, specific locations and directions for these meetings will be posted on the GMP project Web site at http://parkplanning.nps.gov/depo. All attendees will be given the opportunity to ask questions and provide comments to the planning team. The GMP Web site will provide the most up-to-date information regarding the project, including project description, planning updates, meeting notices, reports and documents, and useful links associated with the planning process.

Decision Process: Following the scoping phase and consideration of public concerns and other agency comments, a Draft EIS/GMP will be prepared and released for public review (at this time anticipated to occur in summer 2011). Availability of the forthcoming Draft EIS/GMP will be formally announced through the publication of a Notice of Availability in the Federal Register, as well as through local and regional news media, direct mailing to the project mailing list, and via the Internet at http://www.nps.gov/depo/parkmgmt/plan.htm.

Following due consideration of all agency and public comment, a Final EIS will be prepared (at this time the final plan is expected to be available in 2012). As a delegated EIS, the official responsible for the final decision on the proposed plan is the Regional Director, Pacific West Region, National Park Service. Subsequently, the official responsible for implementation of the approved plan is the Superintendent, Devils Postpile National Monument.

Dated: May 13, 2009.
Jonathan B. Jarvis,
Regional Director, Pacific West.

[FR Doc. E9-13883 Filed 6-12-09; 8:45 am]

BILLING CODE P